DEPARTMENT OF AGRICULTURE

Animal and Plant Health Inspection Service

[Docket No. APHIS-2024-0033]

Notice of Availability of Assessment of the Newcastle Disease Status of the Cantons of Zürich and Jura of Switzerland

AGENCY: Animal and Plant Health Inspection Service, USDA.

ACTION: Notice.

SUMMARY: We are advising the public of our intention to reinstate the animal health status of the Cantons of Zürich and Jura in Switzerland as free of Newcastle disease. This recognition is based on an assessment we have prepared in connection with this action, which we are making available for review and comment.

DATES: We will consider all comments that we receive on or before October 20, 2025.

ADDRESSES: You may submit comments by either of the following methods:

• Federal eRulemaking Portal: Go to www.regulations.gov. Enter APHIS-2024-0033 in the Search field. Select the Documents tab, then select the Comment button in the list of documents.

• Postal Mail/Commercial Delivery: Send your comment to Docket No. APHIS-2024-0033, Regulatory Analysis and Development, PPD, APHIS, 5601 Sunnyside Ave., #AP760, Beltsville, MD 20705.

Supporting documents and any comments we receive on this docket may be viewed at regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Rebecca Gordon, Import Risk Analyst, Regionalization Evaluation Services, Strategy & Policy, Veterinary Services, APHIS, USDA, 920 Main Campus Drive, Suite 200, Raleigh, NC 27606; AskRegionalization@usda.gov; (919) 855-7741.

SUPPLEMENTARY INFORMATION: The regulations in 9 CFR part 94 govern the importation of animal products into the United States in order to ensure that the products do not introduce or spread diseases or pests of livestock. Section 94.6 contains regulations governing the importation of carcasses, meat, parts or products of carcasses, and eggs (other than hatching eggs) of poultry, game birds, or other birds from areas in which Newcastle disease (ND) is known to exist. The section provides that the Animal and Plant Health Inspection Service (APHIS) will maintain a list on the internet of regions in which ND is not known to exist. It further provides that, should a region be removed from the list due to an outbreak, APHIS will reinstate the region to the list in accordance with the procedures in 9 CFR 92.4.

Section 92.4 provides that after removing disease-free status from all or part of a region, APHIS may reassess the disease situation in that region to determine whether it is necessary to continue import prohibitions or restrictions. When reassessing the region's disease status, APHIS considers the standards of the World Organization for Animal Health for reinstatement of disease-free status, as well as all relevant information obtained through publicly available means or collected by or submitted to APHIS through other means. Prior to removing import prohibitions or restrictions, APHIS makes the information regarding its assessment of the region's disease status available to the public for comment through a notice published in the Federal Register.

APHIS previously issued import alerts on February 7, 2022, and March 23, 2022, notifying trade partners that the Cantons of Zürich and Jura in Switzerland, which had previously been considered to be regions in which ND is not known to exist, were now affected with ND. In accordance with the regulations in § 94.6, concurrent to these determinations, APHIS placed restrictions on the importation of poultry products for commodities from the two cantons.

APHIS completed a Report for Reassessment of Cantons Zürich and Jura in Switzerland as Free of Newcastle Disease in November 2023. This document presents the results of APHIS' reassessment of the ND status of the Cantons of Zürich and Jura. As a result of this reassessment, APHIS concludes that Switzerland has effectively controlled and eradicated ND in its domestic poultry population in the Cantons of Zürich and Jura and that competent veterinary authorities of the cantons have adequate disease control measures in place to rapidly identify, control, and eradicate the disease should it be reintroduced into Switzerland. Based on the results of the reassessment, APHIS recommends reinstating the Cantons Zürich and Jura onto the list of regions in which ND is not known to exist.

The report may be viewed on the Regulations.gov website or in our reading room. (Instructions for accessing Regulations.gov and information on the location and hours of the reading room are provided under the heading ADDRESSES at the beginning of this notice). The document is also available by contacting the person listed under FOR FURTHER INFORMATION CONTACT. Information submitted in support of this notice is also available by contacting the person listed under FOR FURTHER INFORMATION CONTACT.

After reviewing any comments we receive, we will announce our decision regarding the disease status of the Cantons of Zürich and Jura with respect to ND in a subsequent notice.

(Authority: 7 U.S.C. 1622 and 8301-8317; 21 U.S.C. 136 and 136a; 31 U.S.C. 9701; 7 CFR 2.22, 2.80, and 371.4.)

Done in Washington, DC.
Sarah Helming,
Acting Administrator, Animal and Plant Health Inspection Service.

[FR Doc. 2025-15829 Filed 8-19-25; 8:45 am]

BILLING CODE 3410-34-P